DEPARTMENT OF LABOR

Employment and Training Administration

Investigations Regarding Certifications of Eligibility to Apply for Worker Adjustment Assistance

Petitions have been filed with the Secretary of Labor under section 221(a) of the Trade Act of 1974 (“the Act”) and are identified in the appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 2, 2002.

Interested persons are invited to submit written comments regarding the subject matter of the investigations to the Director, Division of Trade Adjustment Assistance, at the address shown below, not later than December 2, 2002.

The petitions filed in this case are available for inspection at the Office of the Director, Division of Trade Adjustment Assistance, Employment and Training Administration, U.S. Department of Labor, Room C-5311, 200 Constitution Avenue, NW., Washington, DC 20210.

Signed in Washington, DC, this 28th day of October, 2002.
Edward A. Tomchick,
Director, Division of Trade Adjustment Assistance.

Appendix

Petitions Instituted on 10/28/2002
TA-W | Subject Firm (Petitioners) | Location | Date of Petition | Product(s)
42,277 | Eaton Corporation (Wkrs) | Rochester Hills, MI | 10/10/2002 | Intake manifold tuning valves.
42,278 | Intra, Inc. (Wkrs) | Spartanburg, SC | 07/31/2002 | Textile machines and equipment.
42,279 | LaGrange Foundry (GMP) | LaGrange, MO | 09/18/2002 | Gray iron and ductile castings.
42,280 | Covington Industries (Comp) | High Point, NC | 10/08/2002 | Home furnishing textiles.
42,281 | Dorel Juvenile Group (Wkrs) | Cartersville, GA | 10/09/2002 | Metal cribs, toddler beds, step stools.
42,282 | CT Gamble Acquisition (Wkrs) | Delanco, NJ | 10/04/2002 | Electrical resistors and components.
42,283 | Facility Pro (Comp) | Dublin, OH | 10/02/2002 | Administrative services.
42,284 | Custom Forest Products (Comp) | Grayling, MI | 10/08/2002 | Venetian wood blind slats.
42,285 | General Electric Company (IUE) | Murfreesboro, TN | 10/21/2002 | Two speed washing machine motor.
42,286 | Best Manufacturing Co. (Wkrs) | Fayette, AL | 09/14/2002 | Synthetic latex gloves.
42,287 | Crystal Dyeing and Finish (Comp) | Hickory, NC | 10/15/2002 | Dyeing and finishing of apparel fabrics.
42,288 | Warp Knit Mills, Inc. (Comp) | Lincolnton, NC | 10/15/2002 | Warp knitted fabrics for apparel product.
42,289 | Interlake Material (Wkrs) | Pontiac, IL | 02/10/2002 | Industrial racks.
42,290 | Glen Raven Inc. (Wkrs) | Burnsville, NC | 09/30/2002 | Textiles—woven fabric.
42,291 | Playtex Apparel Inc. (Wrks) | Dover, DE | 10/10/2002 | Apparel.
42,292 | MacNeill Worldwide (Wkrs) | Laconia, NH | 10/12/2002 | Plastic injection molding.
42,293 | Rollway Bearing Corp. (UAW) | Liverpool, NY | 09/25/2002 | Cylindrical precision bearings.
42,294 | Glucona America Inc. (Wkrs) | Janesville, WI | 10/10/2002 | Gluconic acid and glucono delta lactone.
42,295 | Master Carrier, Inc. (Wkrs) | Mayport, PA | 10/09/2002 | Transporting.
42,296 | Westwood Industries (Wkrs) | New York, NY | 10/02/2002 | Textile products for home.
42,297 | Choctaw Electronics (Comp) | Choctaw, MS | 10/11/2002 | Automotive radio speakers.
42,298 | Massillon Stainless, Inc. (Comp) | Massillon, OH | 10/02/2002 | Stainless steel cold rolls.
42,299 | Alcoa Printing Plant (GCIU) | Gilbertsville, PA | 09/26/2002 | Plastic bags.
42,300 | Lake Village Industries (Comp) | Lake Village, AR | 10/10/2002 | Pajamas, pants, flameouts, belts.
42,301 | Tennecast/CDT (Comp) | Barberton, OH | 10/21/2002 | Aluminum castings and molds.
42,302 | Trends Clothing Corp. (Wkrs) | Miami, FL | 10/09/2002 | Junior sportswear.
42,303 | Abel Conn (Wkrs) | Cokato, MN | 10/08/2002 | Back panels and custom interconnects.
42,304 | Virkler Company (The) (Comp) | Charlotte, NC | 10/11/2002 | Specialty chemicals for textiles.
42,305 | Unison Industries (Comp) | Ft. Worth, TX | 10/08/2002 | Electrical wire harnesses.
42,306 | Atlas Copco (UE) | Holyoke, MA | 10/09/2002 | Air compressors and generators.
42,307 | Cadence Design Systems (Wkrs) | Irvine, CA | 10/11/2002 | Analog simulators.
42,308 | Shipping Systems, Inc. (Wkrs) | Crossett, AR | 10/02/2002 | Paper and polypropylene dunnage bags.
42,309 | Advanced Glassfiber Yarns (Comp) | Huntingdon, PA | 08/01/2002 | e-glass yarns, fine yarns, D fiber.
42,310 | Inteplast Group Ltd. (Wkrs) | Lolita, TX | 10/07/2002 | Plastic trash bags, garment bags.
42,311 | New England Iron, LLC (Comp) | Springfield, MA | 10/18/2002 | Sand shell molded gray iron.
42,312 | Analog Devices (Wkrs) | Norwood, MA | 10/18/2002 | Marketing service.
42,313 | Premier Machining Indust. (Co.) | Concord, NC | 10/23/2002 | Fabricated machine parts.

[FR Doc. 02-29627 Filed 11-20-02; 8:45 am]

BILLING CODE 4510-30-P